RAILROAD RETIREMENT BOARD

20 CFR Part 217

RIN 3220-AB55

Application for Annuity or Lump Sum

AGENCY: Railroad Retirement Board.

ACTION: Proposed rule.

SUMMARY: The Railroad Retirement Board (Board) proposes to amend its regulations to permit the filing of applications via the Internet. The Government Paperwork Elimination Act provides that federal agencies are required by October 21, 2003, to provide “for the option of the electronic maintenance, submission, or disclosure of information, when practicable as a substitute for paper”. The proposed changes to part 217 will permit the filing of applications for benefits under the Railroad Retirement Act electronically.

DATES: Submit comments on or before February 18, 2003.

ADDRESSES: Address any comments concerning this proposed rule to Beatrice Ezerski, Secretary to the Board, Railroad Retirement Board, 844 North Rush Street, Chicago, Illinois 60611-2092.

FOR FURTHER INFORMATION CONTACT: Marguerite P. Dadabo, Assistant General Counsel, (312) 751-4945, TTD (312) 751-4701.

SUPPLEMENTARY INFORMATION: The amendments would revise part 217 of the Board's regulations (20 CFR 217) to permit the filing of applications via the Internet. The Government Paperwork Elimination Act, Pub. L. 105-277 §§ 1701-1710 (codified as 44 U.S.C. § 3504n), provides that Federal agencies are required by October 21, 2003, to provide “for the option of the electronic maintenance, submission, or disclosure of information, when practicable as a substitute for paper”. The proposed changes to part 217 will permit the filing of applications under the Railroad Retirement Act electronically.

The change to § 217.5 provides that the application may be filed electronically. That section is further amended to provide that if the application is filed electronically, the applicant's proper use of the Board's User ID/Pin/Password system is an acceptable signature.

The Board currently uses a User ID/PIN/Password system that allows railroad employers access to RRBLINK to make electronic tax deposits and electronically submit Form DC-1, “Employer's Quarterly Report of Contributions Under the Railroad Unemployment Insurance Act”. A User ID/PIN/Password system is used to access the http://www.pay.gov site. The U.S. Department of the Treasury operates the http://www.pay.gov site. Such a system also is consistent with the guidance provided by the Department of Justice regarding the use of electronic processes.

The change to § 217.6 makes an electronic submission of an application through the Board's system a valid application for benefits under the Railroad Retirement Act. Section 217.15 is amended to permit a claimant to file an application electronically through the Board's system.

Section 217.16 has been amended to clarify the filing date when an application is filed electronically. Section 217.17 has been amended to permit the submission of an application through the Board's electronic system using a User ID/PIN/Password as an adequate signature. Section 217.18 has been amended to explain when an electronic submission of an application is not acceptable.

Collection of Information Requirements

Under the Paperwork Reduction Act (PRA) of 1995, agencies are required to provide 60-day notice in the Federal Register and solicit public comment before a collection of information requirement is submitted to the Office of Management and Budget (OMB) for review and approval. Because this rule proposes to collect application information by a different method, i.e., via the Internet rather than on a paper application, and in order to fairly evaluate whether an information collection should be approved, section 3506(c)(2)(A) of the PRA of 1995 requires that we solicit comment on the following issues:

• Whether the information collection is necessary and useful to carry out the proper functions of the agency;

• The accuracy of the agency's estimate of the information collection burden;

• The quality, utility, and clarity of the information to be collected; and

• Recommendations to minimize the information collection burden on the affected public, including automated collection techniques.

The information which will be collected via the Internet is the same information currently collected on paper applications. Those information collections through paper applications have been approved by OMB under the following control numbers, which expire as indicated: 3220-0002, Application for Employee Annuity under the Railroad Retirement Act, expiring July 31, 2003; 3220-0030, Application for Survivor Insurance Annuities, expiring March 31, 2004; 3220-0031, Application for Survivor Death Benefits, expiring January 31, 2003; and 3220-0042, Application for Spouse Annuity under the Railroad Retirement Act, expiring July 31, 2003.

The Board has not yet completed development of the format to be used in collecting application information via the Internet. We will therefore again solicit public comment on this rule along with the actual format to be used to collect application information via the Internet at the final rule stage of this rule.

Regulatory Impact Statement

Prior to publication of this proposed rule, the Board submitted this rule to the Office of Management and Budget for review pursuant to Executive Order 12866. Executive Order 12866 directs agencies to assess all costs and benefits of available regulatory alternatives and when regulation is necessary, to select regulatory approaches that maximize net benefits (including potential economic, environmental, public health and safety effects, distributive impacts, and equity). A regulatory impact analysis (RIA) must be prepared for rules that constitute significant regulatory action, including rules that have an economic effect of $100 million or more annually. This proposed rule is not a major rule in terms of the aggregate costs involved. While this amendment should result in modest savings in administrative costs due to the streamlining of procedures, we have determined that this proposed rule is not a major rule with economically significant effects because it would not result in increases in total expenditures of $100 million or more per year.

The proposed rule is significant because for the first time applicants for benefits under the Railroad Retirement Act will be afforded a method of applying for benefits without completing a written form. Part 217 is proposed to be amended to permit the filing of applications for an annuity or lump sum electronically via the Internet in accordance with the provisions of the Government Paperwork Elimination Act. Sections 1701-1710 of that Act, Pub. L. 105-277 (codified as 44 U.S.C. 3504n), require Federal agencies to provide for the option of electronic maintenance, submission, or disclosure of information, when practicable, as a substitute for paper. The proposed changes to Part 217 will benefit the agency's constituents who will have the opportunity to file applications for benefits electronically via the Internet.

Both the Regulatory Flexibility Act and the Unfunded Mandates Act of 1995 define “agency” by referencing the definition of “agency” contained in 5 U.S.C. 551(1). Section 551(1)(E) excludes from the term “agency” an agency that is composed of representatives of the parties or of representatives of organizations of the parties to the disputes determined by them. The Railroad Retirement Board falls within this exclusion (45 U.S.C. 231f(a)) and is therefore exempt from the Regulatory Flexibility Act and the Unfunded Mandates Act.

Executive Order 13132 establishes certain requirements that an agency must meet when it promulgates a rule that imposes substantial direct compliance costs on State and local governments, preempts State law, or otherwise has Federalism implications. We have reviewed this proposed rule under the threshold criteria of Executive Order 13132 and have determined that it would not have a substantial direct effect on the rights, roles, and responsibilities of States or local governments.

In accordance with the provisions of Executive Order 12866, this regulation has been reviewed by the Office of Management and Budget.

List of Subjects in 20 CFR Part 217

Claims, Railroad retirement, Reporting and record keeping requirements.

For the reasons set out in the preamble, the Railroad Retirement Board proposes to amend title 20, chapter II, part 217 of the Code of Federal Regulations as follows:

PART 217—APPLICATION FOR ANNUITY OR LUMP SUM

1. The authority citation for part 217 continues to read as follows:

Authority: 45 U.S.C. 231d and 45 U.S.C. 231f.

2. Section 217.5 of Subpart B is revised to read as follows:

§ 217.5 When an application is a claim for an annuity or lump sum.

An application is a claim for an annuity or lump sum if it complies with paragraphs (a), (b), and (c):

(a) It is either on an application form completed and filed with the Board or is submitted electronically through the Board's system as described in § 217.6;

(b) It is either:

(1) Signed by the claimant or by someone described in § 217.17 who can sign the application for the claimant; or

(2) Filed electronically through the Board's system.

(c) It is filed with the Board on or before the date of death of the claimant. (See § 217.10 for limited exceptions.) (Approved by the Office of Management and Budget under control number 3220-0002)

3. Section 217.6 of Subpart B is amended by adding a new paragraph (d) to read as follows:

§ 217.6 What is an application filed with the Board.

* * * * *

(d) Claim filed electronically. A claim filed electronically utilizing the Board's system with a User ID/Pin/Password is a valid application for an annuity or lump sum.

4. Section 217.15 of Subpart C is amended by adding a new paragraph (c) to read as follows:

§ 217.15 Where to file.

* * * * *

(c) Electronic filing. An application for an annuity or lump sum may be filed electronically through the Board's Web site, www.rrb.gov utilizing a User ID/Pin/Password.

5. Section 217.16 of Subpart C is amended by adding a new paragraph (f) to read as follows:

§ 217.16 Filing date.

* * * * *

(f) On the date that the electronic filing of an application for an annuity or lump sum is accepted as submitted by the Board's electronic system.

6. Section 217.17 of Subpart C is amended by adding a new paragraph (f) to read as follows:

§ 217.17 Who may sign an application.

* * * * *

(f) An application for an annuity or lump sum that is filed electronically through the Board's Web site, http://www.rrb.gov, utilizing a User ID/Pin/Password. The use by the applicant of his/her self-selected password in conjunction with the Board's User ID/PIN/Password system has the same validity as a signature on a paper application.

(Approved by the Office of Management and Budget under control numbers 3220-0002, 3220-0030, 3220-0031, and 3220-0042)

7. Section 217.18 of Subpart C is amended by adding a new paragraph (d) to read as follows:

§ 217.18 When application is not acceptable.

* * * * *

(d) Electronic filing. If an application for an annuity is filed through the Board's electronic system and it is rejected by that system, the claimant must submit another application. If the new application, electronic or paper, is submitted within 30 days from the notification that the initial filing was rejected, the Board will set the filing date of the subsequent application as the date the rejected application was attempted to be filed.

Dated: December 12, 2002.
By Authority of the Board.
For the Board.
Beatrice Ezerski,
Secretary to the Board.

[FR Doc. 02-31775 Filed 12-17-02; 8:45 am]

BILLING CODE 7905-01-P